DEPARTMENT OF HOMELAND SECURITY

Coast Guard

33 CFR Part 165

[CGD13-03-008]

RIN 1625-AA00

Safety Zone; Annual Fireworks Events in the Captain of Port Portland Zone, Columbia River, Kennewick, WA

AGENCY: Coast Guard, DHS.

ACTION: Notice of implementation of regulation.

SUMMARY: The Captain of the Port Portland will begin enforcing the safety zone for the Tri-City Fireworks Display to be established by 33 CFR 165.1315 on May 30, 2003. The Captain of the Port, Portland, Oregon, is taking this action to safeguard watercraft and their occupants from safety hazards associated with the fireworks display. Entry into this safety zone is prohibited unless authorized by the Captain of the Port.

DATES: 33 CFR 165.1315 will be enforced July 4, 2003 from 9:30 p.m. (PDT) until 10:30 p.m. (PDT).

SUPPLEMENTARY INFORMATION: On May 30, 2003, the Coast Guard is publishing a final rule establishing safety zones, in 33 CFR 165.1315, to provide for the safety of vessels in the vicinity of fireworks displays one of which is the Tri-City fireworks display. The safety zone will include waters on the Columbia River bounded by shoreline to the north and south, Interstate 395 bridge to the east, and 1000 feet of water to the west of the launching barge which is centered at 46°13′38″ North, 119°08′52″ West. Entry into this zone is prohibited unless authorized by the Captain of the Port or his designee. The Captain of the Port Portland will enforce this safety zone on July 4, 2003 from 9:30 p.m. (PDT) until 10:30 p.m. (PDT). The Captain of the Port may be assisted by other federal, state, or local agencies in enforcing this security zone.

FOR FURTHER INFORMATION CONTACT: Captain of the Port Portland, 6767 N. Basin Ave, Portland, OR 97217 at (503) 240-9370 to obtain information concerning enforcement of this rule.

Dated: May 27, 2003.
Paul D. Jewell,
Captain, U.S. Coast Guard, Captain of the Port, Portland.

[FR Doc. 03-14010 Filed 6-3-03; 8:45 am]

BILLING CODE 4910-15-P